ENVIRONMENTAL PROTECTION AGENCY

[FRL-10915-01-OAR]

California State Nonroad Engine Pollution Control Standards; Commercial Harbor Craft; Notice of Public Hearing

AGENCY: Environmental Protection Agency.

ACTION: Notice of opportunity for public hearing and comment.

SUMMARY: The California Air Resources Board (CARB) has notified EPA that is has adopted amendments to its Commercial Harbor Craft (CHC) regulation. By letter dated January 31, 2023, CARB asked that EPA authorize these amendments pursuant to section 209(e) of the Clean Air Act (CAA). On March 17, 2023, EPA announced an opportunity for public hearing and request for public comment on this request. In that Notice, EPA announced that it would only hold a virtual public hearing if a request for hearing was submitted and that the written comment period would close on May 1, 2023. EPA also announced that it would extend the written comment closure date in the event a virtual public hearing was requested and held. EPA has received multiple requests for a virtual public hearing, so therefore EPA is announcing the date of the virtual public hearing and the new comment deadline for CARB's request.¹

¹ In the same March 17 Notice (88 FR 16439), EPA announced an opportunity for public hearing and request for public comment on CARB's request for a waiver for another regulation, its 2020 Ocean-Going Vessels At-Berth Amendments. EPA did not receive any requests for a virtual public hearing on CARB's 2020 Ocean-Going Vessels At-Berth Amendments before the public hearing request deadline. Therefore, EPA is not holding a virtual public hearing or extending the written comment closure date for the 2020 Ocean-Going Vessels At Berth Amendment waiver request.

DATES: EPA will hold a virtual public hearing concerning CARB's request on June 1, 2023, beginning at 10 a.m. EST. Any party may submit written comments on this request by July 1, 2023. Parties wishing to present oral testimony at the virtual public hearing should email one of the persons noted below in the FOR FURTHER INFORMATION CONTACT, by or before May 25, 2023.

FOR FURTHER INFORMATION CONTACT: David Dickinson, Office of Transportation and Air Quality, Transportation and Climate Division, Environmental Protection Agency; Email Address: dickinson.david@epa.gov; (202) 343-9256; or Kayla Steinberg, Office of Transportation and Air Quality, Transportation and Climate Division, Environmental Protection Agency; Email Address: steinberg.kayla@epa.gov; 202-564-7658.

ADDRESSES: You may submit your comments, identified by Docket ID No. EPA-HQ-OAR-2023-0153 by any of the following methods:

• Federal eRulemaking Portal: https://www.regulations.gov (our preferred method). Follow the online instructions for submitting comments.

• Email:a-and-r-docket@epa.gov.

• Mail: U.S. Environmental Protection Agency, EPA Docket Center, OAR, Docket EPA-HQ-OAR-2023-0153, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operations are 8:30 a.m.-4:30 p.m., Monday-Friday (except federal holidays). Instructions: All submissions received must include the Docket ID No. for this action. Comments received may be posted without change to https://www.regulations.gov, including any personal information provided. For detailed instructions on sending comments and additional information on the process for this action, see the “Public Participation” heading of the SUPPLEMENTARY INFORMATION section of this document.

• Public Hearing: EPA will hold a public hearing on June 1, 2023, at 10 a.m. EST. More information about the public hearing, including registration and viewing information, will be posted at https://www.epa.gov/state-and-local-transportation/vehicle-emissions-california-waivers-and-authorizations (click “Federal Register Notices List” and find the link in the entry for this Notice). Please visit that page for the most up-to-date information about this public hearing. Any questions can be directed by email to one of the persons noted in the FOR FURTHER INFORMATION CONTACT.

• EPA's Office of Transportation and Air Quality also maintains a web page that contains general information on its review of California waiver and authorization requests. Included on that page are links to prior waiver and authorization Federal Register notices. This page will also include updates and additional information regarding this authorization proceeding. The page can be accessed at https://www.epa.gov/state-and-local-transportation/vehicle-emissions-california-waivers-and-authorizations.

SUPPLEMENTARY INFORMATION:

Public Participation: EPA will allow each commenter 5 minutes to provide oral testimony. In addition, the EPA recommends submitting the text of your oral testimony to the docket. Written statements and supporting information submitted during the comment period will be considered with the same weight as oral testimony and supporting information present at the virtual public hearing. It is not necessary to register in order to attend the public on June 1, 2023, at 10 a.m. EST. More information about the public hearing, including registration and viewing information, will be posted at https://www.epa.gov/state-and-local-transportation/vehicle-emissions-california-waivers-and-authorizations (click “Federal Register Notices List” and find the link in the entry for this Notice). Please visit that page for the most up-to-date information about this public hearing. Those wishing to present oral testimony at the virtual public hearing should notify a person in the FOR FURTHER INFORMATION CONTACT noted above and should do so by or before May 25, 2023.

Dated: April 21, 2023.
Karl Simon,
Director, Transportation and Climate Division, Office of Transportation and Air Quality, Office of Air and Radiation.

[FR Doc. 2023-08871 Filed 4-26-23; 8:45 am]

BILLING CODE 6560-50-P